ENVIRONMENTAL PROTECTION AGENCY

40 CFR Part 271

[EPA-R04-RCRA-2012-0124; FRL-9735-1]

Tennessee: Final Authorization of State Hazardous Waste Management Program Revisions

AGENCY: Environmental Protection Agency (EPA).

ACTION: Proposed rule.

SUMMARY: Tennessee has applied to EPA for final authorization of the changes to its hazardous waste program under the Resource Conservation and Recovery Act (RCRA). EPA proposes to grant final authorization to Tennessee. In the “Rules and Regulations” section of this Federal Register, EPA is authorizing the changes by an immediate final rule. EPA did not issue a proposed rule prior to the immediate final rule because we believe this action is not controversial and do not expect comments that oppose it. EPA has explained the reasons for this authorization in the preamble to the immediate final rule. Unless EPA receives written comments which oppose this authorization during the comment period, the immediate final rule will become effective on the date it establishes, and we will not take further action on this proposal. If EPA receives comments that oppose this action, we will withdraw the immediate final rule and it will not take effect. EPA will then respond to public comments in a later final rule based on this proposal. You may not have another opportunity for comment. If you want to comment on this action, you must do so at this time.

DATES: Comments must be received on or before November 5, 2012.

ADDRESSES: Submit your comments, identified by Docket ID No. EPA-R04-RCRA-2012-0124, by one of the following methods:

• http://www.regulations.gov: Follow the on-line instructions for submitting comments.

• Email: johnson.otis@epa.gov.

• Fax: (404) 562-9964 (prior to faxing, please notify the EPA contact listed below).

• Mail: Send written comments to Otis Johnson, Permits and State Programs Section, RCRA Programs and Materials Management Branch, RCRA Division, U.S. Environmental Protection Agency, Atlanta Federal Center, 61 Forsyth Street SW., Atlanta, Georgia 30303-8960.

• Hand Delivery or Courier: Otis Johnson, Permits and State Programs Section, RCRA Programs and Materials Management Branch, RCRA Division, U.S. Environmental Protection Agency, Atlanta Federal Center, 61 Forsyth Street SW., Atlanta, Georgia 30303-8960. Such deliveries are only accepted during the Regional Office's normal hours of operation, and special arrangements should be made for deliveries of boxed information.

Instructions: Direct your comments to Docket ID No. EPA-R04-RCRA-2012-0124. EPA's policy is that all comments received will be included in the public docket without change and may be made available online at www.regulations.gov including any personal information provided, unless the comment includes information claimed to be Confidential Business Information (CBI), or other information which disclosure is restricted by statute. Do not submit information that you consider to be CBI or otherwise protected through www.regulations.gov or email. The www.regulations.gov Web site is an “anonymous access” system, which means EPA will not know your identity or contact information unless you provide it in the body of your comment. If you send an email comment directly to EPA without going through, www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. (For additional information about EPA's public docket, visit the EPA Docket Center homepage at http://www.epa.gov/epahome/dockets.htm.)

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov, or in hard copy. You may view and copy Tennessee's application at the EPA, Region 4, RCRA Division, Atlanta Federal Center, 61 Forsyth Street SW., Atlanta, Georgia 30303-8960.

You may also view and copy Tennessee's application from 8:00 a.m. to 4:00 p.m. at the Tennessee Department of Environment and Conservation, 5th Floor, L & C Tower, 401 Church Street, Nashville, Tennessee 37243-1535; telephone number: (615) 562-0780. Interested persons wanting to examine these documents should make an appointment with the office at least a week in advance.

FOR FURTHER INFORMATION CONTACT: Otis Johnson, Permits and State Programs Section, RCRA Programs and Materials Management Branch, RCRA Division, U.S. Environmental Protection Agency, Atlanta Federal Center, 61 Forsyth Street SW., Atlanta, Georgia 30303-8960; telephone number: (404) 562-8481; fax number: (404) 562-9964; email address: johnson.otis@epa.gov.

SUPPLEMENTARY INFORMATION: For additional information, please see the immediate final rule published in the “Rules and Regulations” section of this Federal Register.

A. Stanley Meiburg,
Acting Regional Administrator, Region 4.

[FR Doc. 2012-24097 Filed 10-4-12; 8:45 am]

BILLING CODE 6560-50-P